DEPARTMENT OF COMMERCE

International Trade Administration

[A-533-810]

Stainless Steel Bar From India: Preliminary Results of Antidumping Duty Administrative Review; and Rescission of Review in Part; 2018-2019

AGENCY: Enforcement and Compliance, International Trade Administration, Department of Commerce.

SUMMARY: The Department of Commerce (Commerce) preliminarily determines that producers/exporters subject to this review made sales of stainless steel bar (SS Bar) from India at less than fair value (LTFV) during the period of review (POR) February 1, 2018 through January 31, 2019. Interested parties are invited to comment on these preliminary results.

DATES: Applicable March 3, 2020.

FOR FURTHER INFORMATION CONTACT: Hermes Pinilla or Allison Hollander, AD/CVD Operations, Office I, Enforcement and Compliance, International Trade Administration, U.S. Department of Commerce, 1401 Constitution Avenue NW, Washington, DC 20230; telephone (202) 482-3477 or (202) 482-2805, respectively.

SUPPLEMENTARY INFORMATION:

Background

This review covers two producers/exporter of the subject merchandise, Venus Wire Industries Pvt. Ltd., and its affiliates Hindustan Inox, Precision Metals and Sieves Manufacturers (India) Pvt. Ltd. (collectively, the Venus Group),¹ and Ambica Steels Limited (Ambica). Commerce preliminarily determines that sales of subject merchandise by Ambica have not been made at prices below normal value. Commerce also preliminarily determines that sales of subject merchandise by the Venus Group have been made at prices below normal value. Interested parties are invited to comment on these preliminary results.

¹ Commerce has previously determined that Venus Wire Industries Pvt. Ltd., and its affiliates Hindustan Inox, Precision Metals and Sieves Manufacturers (India) Pvt. Ltd. constitute a single entity. See Stainless Steel Bar from India: Preliminary Results of Changed Circumstances Review and Intent To Reinstate Certain Companies in the Antidumping Duty Order, 82 FR 48483 (October 18, 2017), and accompanying Preliminary Decision Memorandum at 3-5, unchanged in Final Results of Changed Circumstances Review and Reinstatement of Certain Companies in the Antidumping Duty Order, 83 FR 17529 (April 20, 2018). We have received no information on the record of this review to dispute that finding.

Scope of the Order

The merchandise subject to the order is SS Bar from India. Imports of the product are currently classifiable in the Harmonized Tariff Schedule of the United States (HTSUS) under subheadings 7222.11.00, 7222.19.00, 7222.20.00, 7222.30.00. While the HTSUS subheadings are provided for convenience and customs purposes, the written description is dispositive. For a full description of the scope of the order, see the Preliminary Decision Memorandum.²

² See Memorandum, “Decision Memorandum for the Preliminary Results of Antidumping Duty Administrative Review: Stainless Steel Bar from India: 2017-2018,” dated concurrently with, and hereby adopted by, this notice (Preliminary Decision Memorandum).

Rescission of Administrative Review in Part

Pursuant to 19 CFR 351.213(d)(1), Commerce will rescind an administrative review, in whole or in part, if the parties that requested a review withdraw the request within 90 days of the date of publication of the notice of initiation.

On July 31, 2019, Carpenter Technology Corporation, Crucible Industries LLC, Electralloy, a Division of G.O. Carlson, Inc., North American Stainless, Universal Stainless & Alloy Products, Inc., and Valbruna Slater Stainless, Inc. (collectively, the petitioners), withdrew their request for an administrative review of one company, Jindal Stainless Hisar Ltd. (JSHL).³ The petitioners are the only party that requested a review of JSHL. The petitioners' withdrawal of review request was submitted within the deadline set forth under 19 CFR 351.213(d)(1). Accordingly, Commerce is rescinding this review, in part, with respect to JSHL, in accordance with 19 CFR 351.213(d)(1).⁴

³ See Petitioners' letter, “Stainless Steel Bar from India: Withdrawal of Request for Administrative Review,” dated July 31, 2019.

⁴ For more details, see the Preliminary Decision Memorandum.

Methodology

Commerce is conducting this review in accordance with section 751 of the Tariff Act of 1930, as amended (the Act). Commerce calculated export prices in accordance with section 772 of the Act. Normal value was calculated in accordance with section 773 of the Act.

For a full description of the methodology underlying our conclusions, see the Preliminary Decision Memorandum. The Preliminary Decision Memorandum is a public document and is made available to the public via Enforcement and Compliance's Antidumping and Countervailing Duty Centralized Electronic Service System (ACCESS). ACCESS is available to registered users at http://access.trade.gov, and to all parties in the Central Records Unit, located in Room B8024 of the main Commerce building. In addition, a complete version of the Preliminary Decision Memorandum can be found at http://enforcement.trade.gov/frn/index.html. The electronic and signed versions of the Preliminary Decision Memorandum are identical in content. A list of topics discussed in the Preliminary Decision Memorandum is attached as the appendix to this notice.

Verification

As provided in section 782(i) of the Act, we intend to verify information relied upon in reaching the final results of review with respect to Ambica.

Preliminary Results of Administrative Review

We preliminarily determine that the following weighted-average dumping margins exist for the respondents during the period February 1, 2018 through January 31, 2019:

Producer/exporter | Estimated weighted- average dumping margin (percent)
Venus Wire Industries Pvt. Ltd., and its affiliates Hindustan Inox, Precision Metals and Sieves Manufacturers (India) Pvt. Ltd | 11.88
Ambica Steels Limited | 0.00

Disclosure and Public Comment

We intend to disclose the calculations and analysis performed in these preliminary results to interested parties within five days of any public announcement of these preliminary results in accordance with 19 CFR 351.224(b).

Because Commerce intends to conduct verification of Ambica, pursuant to 19 CFR 351.309(c), interested parties may submit case briefs not later than seven days after the date on which the verification report is issued in this proceeding,⁵ and rebuttal briefs, limited to issues raised in case briefs, may be submitted no later than five days after the deadline date for case briefs.⁶ Parties who submit case briefs or rebuttal briefs in this proceeding are encouraged to submit with each argument: (1) A statement of the issue, (2) a brief summary of the argument, and (3) a table of authorities.⁷

⁵ See 19 CFR 351.309(c)(1)(ii).

⁶ See 19 CFR 351.309(d).

⁷ See 19 CFR 351.309(c)(2) and (d)(2).

Pursuant to 19 CFR 351.310(c), interested parties who wish to request a hearing must submit a written request to the Assistant Secretary for Enforcement and Compliance, U.S. Department of Commerce, filed via ACCESS by 5:00 p.m. Eastern Time within 30 days after the date of publication of this notice.⁸ Requests should contain: (1) The party's name, address, and telephone number; (2) the number of participants; and (3) a list of issues to be discussed. Issues raised in the hearing will be limited to those raised in the respective case briefs.

⁸ See 19 CFR 351.310(c).

Commerce intends to issue the final results of this administrative review, including the results of its analysis of the issues raised in any written briefs, not later than 120 days after the date of publication of this notice, pursuant to section 751(a)(3)(A) of the Act, and 19 CFR 351.213(h)(1) and (2).

Assessment Rates

Upon issuance of the final results in this administrative review, Commerce shall determine and U.S. Customs and Border Protection (CBP) shall assess antidumping duties on all appropriate entries covered by this POR. If a respondent's weighted-average dumping margin is above de minimis (i.e., 0.50 percent) in the final results of these reviews, we will calculate importer-specific assessment rates on the basis of the ratio of the total amount of dumping calculated for each importer's examined sales and, where possible, the total entered value of sales. Specifically, Commerce will apply the assessment rate calculation method adopted in Final Modification for Reviews.⁹ Where an importer- (or customer-) specific ad valorem rate is zero or de minimis, we will instruct CBP to liquidate appropriate entries without regard to antidumping duties.¹⁰

⁹ See Antidumping Proceeding: Calculation of the Weighted-Average Dumping Margin and Assessment Rate in Certain Antidumping Duty Proceedings; Final Modification, 77 FR 8103 (February 14, 2012) (Final Modification for Reviews).

¹⁰ See 19 CFR 351.106(c)(2).

For entries of subject merchandise during the POR produced by the Venus Group and Ambica for which they did not know their merchandise was destined for the United States, we will instruct CBP to liquidate unreviewed entries at the all-others rate if there is no rate for the intermediate company(ies) involved in the transaction.

We intend to issue liquidation instructions to CBP 15 days after publication of the final results of this review.

Cash Deposit Requirements

The following deposit requirements will be effective upon publication of the notice of final results of this review for all shipments of SS Bar from India entered, or withdrawn from warehouse, for consumption on or after the date of publication as provided by section 751(a)(2) of the Act: (1) The cash deposit rate for companies subject to this review will be the rates established in the final results of the review; (2) for merchandise exported by producers or exporters not covered in this review but covered in a prior segment of the proceeding, the cash deposit rate will continue to be the company-specific rate published for the most recent period; (3) if the exporter is not a firm covered in this review, a prior review, or the original investigation but the producer is, the cash deposit rate will be the rate established for the most recent period for the producer of the merchandise; (4) the cash deposit rate for all other producers or exporters will continue to be 12.45 percent, the all-others rate established in the LTFV investigation.¹¹ These cash deposit requirements, when imposed, shall remain in effect until further notice.

¹¹ See Notice of Final Determination of Sales at Less Than Fair Value: Stainless Steel Bar from India, 59 FR 66915, 66921 (December 28, 1994).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

Commerce is issuing and publishing these results in accordance with sections 751(a)(1) and 777(i) of the Act, and 19 CFR 351.221(b)(4).

Dated: February 26, 2020.
Jeffrey I. Kessler,
Assistant Secretary for Enforcement and Compliance.

Appendix

List of Topics Discussed in the Preliminary Decision Memorandum

I. Summary

II. Background

III. Scope of the Order

IV. Cost of Production Analysis for the Venus Group

V. Application of Facts Otherwise Available and Adverse Inferences

VI. Affiliation and Collapsing

VII. Discussion of the Methodology

VIII. Date of Sale

IX. Product Comparisons

X. Export Price and Constructed Export Price

XI. Normal Value

XII. Verification

XIII. Currency Conversion

XIV. Recommendation

[FR Doc. 2020-04343 Filed 3-2-20; 8:45 am]

BILLING CODE 3510-DS-P